FEDERAL COMMUNICATIONS COMMISSION

47 CFR Chapter I

[CG Docket No. 06-152, EB Docket No. 06-153, IB Docket No. 06-154, ET Docket No. 06-155, WT Docket No. 06-156, WC Docket No. 06-157; FCC 06-115]

2006 Biennial Review of Telecommunications Regulations

AGENCY: Federal Communications Commission.

ACTION: Notice of regulatory review.

SUMMARY: The Federal Communications Commission is conducting its comprehensive 2006 biennial review of telecommunications regulations pursuant to Section 11 of the Communications Act of 1934, as amended. Section 11 requires the Commission to review biennially its regulations “that apply to the operations or activities of any provider of telecommunications service,” and to “determine whether any such regulation is no longer necessary in the public interest as the result of meaningful economic competition between the providers of such service.” The Commission is directed to repeal or modify any such regulations that it finds are no longer in the public interest.

DATES: Submit comments by September 1, 2006 and reply comments by September 15, 2006.

ADDRESSES: Comments may be filed using the Commission's Electronic Comment Filing System (“ECFS”) or by filing paper copies. Comments filed through ECFS may be sent as an electronic file via the Internet to http://www.fcc.gov.cgb/ecfs/. For detailed instructions for submitting comments, see the SUPPLEMENTARY INFORMATION section of this document.

FOR FURTHER INFORMATION CONTACT: Michael Jacobs, Consumer and Governmental Affairs Bureau, 202-418-2859, Michael Carowitz, Enforcement Bureau, 202-418-0026, Narda Jones, International Bureau, 202-418-2489, Bruce Romano, Office of Engineering and Technology, 202-418-2124, Peter Corea, Wireless Telecommunications Bureau, 202-418-7931, Carrie-Lee Early, Wireline Competition Bureau, 202-418-2776.

SUPPLEMENTARY INFORMATION: This is a summary of the Commission's Public Notice, CG Docket No. 06-152, EB Docket No. 06-153, IB Docket No. 06-154, ET Docket No. 06-155, WT Docket No. 06-156, WC Docket No. 06-157; FCC 06-115, adopted August 3, 2006 and released August 10, 2006. The full text of this document, including the parts of the Commission's rules under review, is available for public inspection and copying during regular business hours at the FCC Reference Information Center, Portals II, 445 12th Street, SW., Room Y-A257, Washington, DC 20554. They may also be purchased from the Commission's duplicating contractor, Best Copy and Printing, Inc., 445 12th Street, SW., Room CY-B402, Washington, DC 20554, telephone 202-488-5300 or 800-378-3160, facsimile 202-488-5563, or via e-mail at fcc@bcpiweb.com. To request materials in accessible formats for people with disabilities (Braille, large print, electronic files, audio format), send an e-mail to fcc504@fcc.gov or call the Consumer & Governmental Affairs Bureau at 202-418-0530 (voice), 202-418-0432 (TTY).

The Commission is in the process of conducting its comprehensive 2006 biennial review of telecommunications regulations pursuant to Section 11 of the Communications Act of 1934, as amended. This section requires the Commission (1) To review biennially its regulations “that apply to the operations or activities of any provider of telecommunications service,” and (2) to “determine whether any such regulation is no longer necessary in the public interest as the result of meaningful economic competition between the providers of such service.” The Commission is directed to repeal or modify any such regulations that it finds are no longer in the public interest.

Pursuant to § 1.430 of the Commission's rules, we seek suggestions from the public as to what rules should be modified or repealed as part of the 2006 biennial review. Submissions should identify with as much specificity as possible the rule or rules that should be modified or repealed, and explain why and how the rule or rules should be modified or repealed. Parties should discuss how their suggested rule changes satisfy the standard of Section 11 as interpreted by the DC Circuit Court in Cellco Partnership. As with previous biennial reviews, we expect that FCC staff will prepare reports recommending which sections of the rules should be modified or repealed.

In order to facilitate review of all comments, the cover page should (1) Denote that the comments pertain to the Biennial Review 2006, (2) indicate the Bureau or Office with jurisdiction over the rules addressed in the comments, and (3) include the appropriate docket number for that Bureau or Office. Parties wishing to comment on rules within the jurisdiction of more than one Bureau or Office should file a separate pleading with each applicable Bureau or Office.

Comments may be filed using the Commission's Electronic Comment Filing System (“ECFS”) or by filing paper copies. See Electronic Filing of Documents in Rulemaking Proceedings, 63 FR 24121 (1998). Comments filed through the ECFS may be sent as an electronic file via the Internet to http://www.fcc.gov/cgb/ecfs/. Generally, only one copy of an electronic submission must be filed. In completing the transmittal screen, commenters should include their full name, U.S. Postal Service mailing address, and the applicable docket or rulemaking number.

Parties may also submit an electronic comment by Internet e-mail. To obtain filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

Comments in this proceeding will be available for public inspection and copying during regular business hours at the FCC Reference Information Center, Portals II, 445 12th Street, SW., Room Y-A257, Washington, DC 20554. They may also be purchased from the Commission's duplicating contractor, Best Copy and Printing, Inc., 445 12th Street, SW., Room CY-B402, Washington, DC 20554, telephone 202-488-5300 or 800-378-3160, facsimile 202-488-5563, or via e-mail at fcc@bcpiweb.com. To request materials in accessible formats for people with disabilities (Braille, large print, electronic files, audio format), send an e-mail to fcc504@fcc.gov or call the Consumer & Governmental Affairs Bureau at 202-418-0530 (voice), 202-418-0432 (TTY).

This is an exempt proceeding pursuant to § 1.1204(b) of the Commission's rules. Ex parte presentations are permitted.

Federal Communications Commission.
Marlene H. Dortch,
Secretary.

[FR Doc. E6-13965 Filed 8-22-06; 8:45 am]

BILLING CODE 6712-01-P